DEPARTMENT OF TRANSPORTATION

Federal Highway Administration

Environmental Impact Statement; Kandiyohi County, MN

AGENCY: Federal Highway Administration (FHWA), DOT.

ACTION: Notice of intent.

SUMMARY: The FHWA is issuing this notice to advise the public that an environmental impact statement (EIS) will be prepared for proposed highway improvements to Trunk Highway (TH) 71 and TH 23 from the Willmar Bypass to the north junction of TH 71 and TH 23, located northeast of the City of Willmar in Dovre Township, a distance of approximately 3.5 miles, in Kandiyohi County, Minnesota.

FOR FURTHER INFORMATION CONTACT: Cheryl Martin, Federal Highway Administration, Galtier Plaza, Suite 500, 380 Jackson Street, St. Paul, Minnesota 55101, Telephone (651) 291-6120; or Lowell Flaten, Project Manager, Minnesota Department of Transportation—District 8, 2505 Transportation Road, Willmar, Minnesota 56201, Telephone (320) 214-3698; (800) 627-3529 TTY.

SUPPLEMENTARY INFORMATION: The FHWA, in cooperation with the Minnesota Department of Transportation (Mn/DOT), will prepare an EIS to improve safety on the shared alignment section of TH 71 and TH 23 in Dovre Township, northeast of the City of Willmar, a distance of approximately 3.5 miles, in Kandiyohi County, Minnesota. This segment of highway is a rural four-lane divided facility with at-grade intersections at public roadways. The proposed action includes the construction of highway access modifications, new bridges and ramps for grade-separated highway crossings, frontage road extensions and local roadway connections between the existing TH 71/TH 23 highway slit on the north and TH 71/TH 23 at TH 294 (Business 71) on the south. Improvements to the corridor are being considered to improve safety and mobility. Improvements will also assist in managing additional traffic growth that will occur with local and regional planned commercial and residential developments.

The EIS will evaluate the social, economic, transportation and environmental impacts of alternatives, including: (1) No-Build and (2) “Build” alternatives with variations in design and interchange locations along the existing highway corridor, including design variations of grade and alignment. Letters describing the proposed action and soliciting comments will be sent to appropriate Federal, State, and local agencies, and to private organizations and citizens who have previously expressed or are known to have interest in this proposal. A series of public meetings will be held in the project area from summer 2006 to early 2008. The “Trunk Highway 71/23 Improvement Project Scoping Document/Draft Scoping Decision Document” will be published in early summer 2006. A press release will be published to inform the public of the document's availability. Copies of the scoping document will be distributed to agencies, interested persons and libraries for review to aid in identifying issues and analyses for review to aid in identifying issues and analyses to be contained in the EIS. A thirty-day comment period for review of the document will be provided to afford an opportunity for all interested persons, agencies and groups to comment on the proposed action. A public scoping meeting will also be held during the comment period. Public notice will be given for the time and place of the meeting. A Draft EIS will be prepared based on the outcome of the scoping process. The Draft EIS will be available for agency and public review and comment. In addition, a public hearing will be held following completion of the Draft EIS. Public Notice will be given for the time and place of the public hearing on the Draft EIS. Coordination has been initiated and will continue with appropriate Federal, State and local agencies and private organizations and citizens who have previously expressed or are known to have an interest in the proposed action. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Dated: Issued on: May 8, 2006.
Cheryl B. Martin,
Environmental Engineer, Federal Highway Administration, St. Paul, Minnesota.

[FR Doc. 06-4496 Filed 5-12-06; 8:45 am]

BILLING CODE 4910-22-M